DEPARTMENT OF HEALTH AND HUMAN SERVICES

Substance Abuse and Mental Health Services Administration

Center for Substance Abuse Treatment; Notice of Meeting

Pursuant to Pub. L. 92-463, notice is hereby given of a meeting of the Center for Substance Abuse Treatment (CSAT) National Advisory Council to be held in September 2001. A portion of the meeting is open and includes discussion of the Center's policy issues and current administrative, legislative, and program developments. The Council will hear feature presentations by SAMHSA Acting Administrator Joseph H. Autry III, M.D. and CSAT Director H. Westley Clark, M.D., J.D., M.P.H., CAS, FASAM. Significant issues to be discussed with the Council include the Health Insurance Portability Act and its impact on substance abuse; an information exchange on the New Freedom Initiative; status reports on HIV/AIDS; OPIOID Accreditation; CSAT's Faith and Community Partners Initiative; Healthcare Professional Impairment; and Health Disparities. Other anticipated discussions include Confidentiality Regulations and Parity.

If special accommodations are needed for persons with disabilities, please notify the Contact listed below.

The meeting will also include the review, discussion, and evaluation of grant applications. Therefore a portion of the meeting will be closed to the public as determined by the Administrator, SAMHSA, in accordance with Title 5 U.S.C. 552b(c), and (6) and 5 U.S.C. App. 2, § 10(d).

Substantive program information, a summary of the meeting and roster of Council members may be obtained from the contact listed below.

Committee Name: Center for Substance Abuse Treatment, National Advisory Council.

Meeting Date: September 12, 2001—8:30 a.m.-5:00 p.m., September 13, 2001—9:00 a.m.-1:00 p.m.

Place: Bethesda Hyatt Hotel, One Bethesda Metro, Bethesda, Maryland 20814.

Type:Closed: September 12, 2001—8:30 a.m.-9:30 a.m.; Open: September 12, 2001—9:30 a.m.-5:00 p.m., September 13, 2001—9:00 a.m.-1:00 p.m.

Contact:Cynthia Graham, 5600 Fishers Lane, RW II, Ste 618, Rockville, MD 20857, Telephone: (301) 443-8923; FAX: (301) 480-6077, E-mail: cgraham@samhsa.gov.

Dated: August 22, 2001.
Toian Vaughn,
Committee Management Officer, Substance Abuse and Mental Health Services Administration.

[FR Doc. 01-21782 Filed 8-28-01; 8:45 am]

BILLING CODE 4162-20-P